DEPARTMENT OF TRANSPORTATION

Federal Aviation Administration

14 CFR Part 39

[Docket No. FAA-2008-0376; Directorate Identifier 2007-NM-322-AD; Amendment 39-16221; AD 2010-05-11]

RIN 2120-AA64

Airworthiness Directives; The Boeing Company Model 747-100, 747-200B, 747-300, and 747SR Series Airplanes

AGENCY: Federal Aviation Administration (FAA), DOT.

ACTION: Final rule.

SUMMARY: We are adopting a new airworthiness directive (AD) for certain Model 747-100, 747-200B, 747-300, and 747SR series airplanes. This AD requires installation of a closeout panel and moisture curtains for the main equipment center. This AD results from a report of water contamination in the electrical and electronic units in the main equipment center. We are issuing this AD to prevent the malfunction of one or more electrical and electronic units in the main equipment center, which could adversely affect the airplane's continued safe flight.

DATES: This AD is effective April 13, 2010.

The Director of the Federal Register approved the incorporation by reference of a certain publication listed in the AD as of April 13, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Marcia Smith, Aerospace Engineer, Cabin Safety and Environmental Systems Branch, ANM-150S, FAA, Seattle Aircraft Certification Office, 1601 Lind Avenue, SW., Renton, Washington 98057-3356; telephone (425) 917-6484; fax (425) 917-6590.

SUPPLEMENTARY INFORMATION:

Discussion

We issued a supplemental notice of proposed rulemaking (NPRM) to amend 14 CFR part 39 to include an airworthiness directive (AD) that would apply to certain Boeing Model 747-100, 747-200B, 747-300, and 747SR series airplanes. That supplemental NPRM was published in the Federal Register on September 25, 2009 (74 FR 48882). That supplemental NPRM proposed to require installation of a closeout panel and moisture curtains for the main equipment center.

Comments

We gave the public the opportunity to participate in developing this AD. We considered the comment received from the sole commenter.

Request to Reference Revised Service Bulletin

Boeing requests that we revise the supplemental NPRM to refer to Revision 1, dated June 25, 2007, of Boeing Alert Service Bulletin 747-25A3346 for the shroud installation (paragraph (g) in the original NPRM). Boeing states that Revision 1 reroutes the forward drain tube installation, revises the pitot static lines, revises the moisture shroud inboard bracket installation, and revises the wire routing.

We disagree with Boeing's request. As noted in the supplemental NPRM, we have removed the requirement to perform any actions in accordance with Boeing Alert Service Bulletin 747-25A3346. We have not changed the AD in this regard.

Conclusion

We reviewed the relevant data, considered the comment received, and determined that air safety and the public interest require adopting the AD as proposed.

Interim Action

We consider this AD interim action. The manufacturer is currently developing a modification that will address the unsafe condition identified in this AD. Once this modification is developed, approved, and available, we might consider additional rulemaking.

Explanation of Change to Costs of Compliance

Since issuance of the NPRM, we have increased the labor rate used in the Costs of Compliance from $80 per work-hour to $85 per work-hour. The Costs of Compliance information, below, reflects this increase in the specified hourly labor rate.

Costs of Compliance

We estimate that this AD affects 47 airplanes of U.S. registry. The following table provides the estimated costs, at an average labor rate of $85 per work hour, for U.S. operators to comply with this AD.

Estimated Costs
Action | Work hours | Parts | Cost per product | Number of U.S.-registered airplanes | Fleet cost
Installation | Up to 10 | Up to $11,672 | Up to $12,522 | 47 | Up to $588,534.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-05-11 The Boeing Company: Amendment 39-16221. Docket No. FAA-2008-0376; Directorate Identifier 2007-NM-322-AD.

Effective Date

(a) This airworthiness directive (AD) is effective April 13, 2010.

Affected ADs

(b) None.

Applicability

(c) This AD applies to The Boeing Company Model 747-100, 747-200B, 747-300, and 747SR series airplanes, certificated in any category; as identified in Boeing Service Bulletin 747-25A3368, Revision 2, dated June 12, 2008.

Note 1: The affected airplanes are those that have been converted by Boeing to the Boeing Special Freighter configuration.

Subject

(d) Air Transport Association (ATA) of America Code 25: Equipment/furnishings.

Unsafe Condition

(e) This AD results from a report of water contamination in the electrical and electronic units in the main equipment center. We are issuing this AD to prevent the malfunction of one or more electrical and electronic units in the main equipment center, which could adversely affect the airplane's continued safe flight.

Compliance

(f) You are responsible for having the actions required by this AD performed within the compliance times specified, unless the actions have already been done.

Install the Closeout Panel and Moisture Curtains

(g) Within 24 months after the effective date of this AD, install the closeout panel and moisture curtains for the main equipment center, by accomplishing all of the applicable actions specified in the Accomplishment Instructions of Boeing Service Bulletin 747-25A3368, Revision 2, dated June 12, 2008.

Credit for Actions Done According to Previous Issue of the Service Bulletin

(h) Actions done before the effective date of this AD in accordance with the Accomplishment Instructions in Boeing Alert Service Bulletin 747-25A3368, dated August 25, 2005, are acceptable for compliance with the corresponding actions required by paragraph (g) of this AD, provided that the additional work specified in the Accomplishment Instructions of Boeing Alert Service Bulletin 747-25A3368, Revision 1, dated June 25, 2007; or Revision 2, dated June 12, 2008; is accomplished. The additional work required is to cap seal all rivets fastening the mounting base assembly to the moisture shroud as given in Figure 10 in Boeing Alert Service Bulletin 747-25A3368, Revision 2, dated June 12, 2008, and to fill any unused pilot holes in the mounting base assembly in accordance with the Accomplishment Instructions of Boeing Alert Service Bulletin 747-25A3368, Revision 2, dated June 12, 2008; or cap seal all rivets fastening the mounting base assembly to the moisture shroud as given in Figure 10 of Boeing Alert Service Bulletin 747-25A3368, Revision 1, dated June 25, 2007, and to fill any unused pilot holes in the mounting base assembly in accordance with the Accomplishment Instructions of Boeing Alert Service Bulletin 747-25A3368, Revision 1, dated June 25, 2007.

(i) Actions done before the effective date of this AD in accordance with Boeing Alert Service Bulletin 747-25A3368, Revision 1, dated June 25, 2007, are acceptable for compliance with the corresponding actions required by paragraph (g) of this AD.

Alternative Methods of Compliance (AMOCs)

(j)(1) The Manager, Seattle Aircraft Certification Office, FAA, has the authority to approve AMOCs for this AD, if requested using the procedures found in 14 CFR 39.19. Send information to ATTN: Marcia Smith, Aerospace Engineer, Cabin Safety and Environmental Systems Branch, ANM-150S, FAA, Seattle Aircraft Certification Office, 1601 Lind Avenue SW., Renton, Washington 98057-3356; telephone (425) 917-6484; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(k) You must use Boeing Service Bulletin 747-25A3368, Revision 2, dated June 12, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 25, 2010.
Jeffrey E. Duven,
Acting Manager, Transport Airplane Directorate, Aircraft Certification Service.

[FR Doc. 2010-4650 Filed 3-8-10; 8:45 am]

BILLING CODE 4910-13-P